DEPARTMENT OF DEFENSE

Office of the Secretary

32 CFR Part 392

[DoD Instruction 5134.04]

Director of Small and Disadvantaged Business Utilization

AGENCY: Department of Defense.

ACTION: Final rule.

SUMMARY: This document removes regulations from Title 32 of the Code of Federal Regulations concerning the Director of Small and Disadvantaged Business Utilization. This part has served the purpose for which it was intended in the CFR and is no longer necessary.

EFFECTIVE DATE: January 30, 2006.

FOR FURTHER INFORMATION CONTACT: L.M. Bynum (703) 696-4970.

SUPPLEMENTARY INFORMATION: The revised DoD Instruction 5134.04 is available at http://www.dtic.mil/whs/directives/corres/html/513404.htm.

List of Subjects in 32 CFR Part 392

Organizations.

PART 392—[REMOVED]

Accordingly, by the authority of 10 U.S.C. 301, 32 CFR part 392 is removed.

Dated: January 24, 2006.
L.M. Bynum,
Alternate OSD Federal Register Liaison Officer, Department of Defense.

[FR Doc. 06-814 Filed 1-27-06; 8:45 am]

BILLING CODE 5001-06-M